DEPARTMENT OF HEALTH AND HUMAN SERVICES

Substance Abuse and Mental Health Services Administration

Advisory Committee for Women's Services; Amendment of Meeting Notice

Pursuant to Public Law 92-463, notice is hereby given of an amendment of the meeting of the Substance Abuse and Mental Health Services Administration's (SAMHSA) Advisory Committee for Women's Services (ACWS) to be held on September 11-12.

Public notice was published in the Federal Register on August 26, 2010, Volume 75, Number 165, page 52537, announcing that the ACWS would be convening on September 11-12 at the Town and Country Convention Center in San Diego, California.

The correct dates of the two-day meeting are Sunday, September 12, from 9 a.m. to 12 noon, Pacific Daylight Time and Monday, September 13, from 9 a.m. to 2 p.m., Pacific Daylight Time.

For additional information, contact Nevine Gahed, Designated Federal Official for SAMHSA's ACWS, 1 Choke Cherry Road, Room 8-1016, Rockville, MD 20857, Telephone: 240.276.2331, FAX: 240.276.2251, and E-mail: nevine.gahed@samhsa.hhs.gov.

Dated: August 26, 2010.
Toian Vaughn,
Committee Management Officer, Substance Abuse and Mental Health, Services Administration.

[FR Doc. 2010-21917 Filed 9-1-10; 8:45 am]

BILLING CODE 4162-20-P